NUCLEAR REGULATORY COMMISSION

Advisory Committee on Nuclear Waste; Notice of Meeting

The Advisory Committee on Nuclear Waste (ACNW) will hold its 121st meeting on September 19-20, 2000 at the Crowne Plaza Hotel, Ballroom C, 4255 South Paradise Road, Las Vegas, Nevada.

The entire meeting will be open to public attendance.

The schedule for this meeting is as follows:

Tuesday, September 19, 2000

A. 8:00 a.m.-9:00 a.m.: ACNW Planning and Procedures (Open)—The Committee will consider topics proposed for future consideration by the full Committee and Working Groups. The ACNW will discuss planned tours and ACNW-related activities of individual members.

B. 9:00 a.m.-4:15 p.m.: Yucca Mountain Review Plan (YMRP) Working Group Session (Open)—The NRC staff will present their current draft of the YMRP and discuss the principal points in each chapter of the document.

C. 4:15 p.m.-7:15 p.m.: Public Comments (Open)—The Committee will hear comments from stakeholders. Among those groups that have indicated their intent to provide brief comments: the State of Nevada, counties, native American tribes, and the Nevada Nuclear Waste Task Force. Other comments from parties in attendance will be accepted as time permits.

Wednesday, September 20, 2000

D. 8:00 a.m.-8:30 a.m.: DOE's Progress on Proposed Repository at Yucca Mountain, Nevada (Open)—Representatives of the Department of Energy (DOE) will brief the Committee on recent progress at Yucca Mountain.

E. 8:30 a.m.-9:15 a.m.: DOE's Site Recommendation Considerations Report (SRCR) (Open)—Representatives of the DOE will update the Committee on the status of the SRCR.

F. 9:15 a.m.-12:00 Noon: Total System Performance Assessment—Site Recommendations (TSPA-SR) (Open)—DOE representatives will provide an update and discuss major aspects of the TSPA-SR.

G. 1:00 p.m.-2:00 p.m.: Chlorine ³⁶ Issue (Open)—DOE representatives will provide an update as to their most recent findings on this issue.

H. 2:00 p.m.-3:15 p.m.: Fluid Inclusion Issues (Open)—A panel comprised of DOE, State of Nevada and UNLV experts will discuss the results of their most recent studies on this issue.

I. 3:30 p.m.-4:30 p.m.: Site Status—Tour (Open)—A DOE representative will provide the ACNW with a preview of the relevant activities and tour stops scheduled for the September 21st visit by the Committee of the proposed repository at Yucca Mountain.

J. 4:30 p.m.-6:00 p.m.: Prepare for the October Public Meeting with the Commission (Open)—The ACNW will finalize preparations for the next public meeting with the Commission. The meeting is tentatively scheduled for October 17, 2000. Potential topics for discussion include: the development of a Yucca Mountain Review Plan and 10 CFR Part 63 (Disposal of High-Level Radioactive Waste in a proposed geologic repository at Yucca Mountain, Nevada); highlights of the Committee's recent European trip, Risk Informed Regulation in the Office of Nuclear Material Safety and Safeguards; and comments on the staff's Yucca Mountain Site Sufficiency Strategy.

K. 6:00 p.m.-7:00 p.m.: Continue Preparation of ACNW Reports (Open)—The Committee will discuss the planned ACNW report on the YMRP as well as potential future reports.

L. 7:00 p.m.-7:30 p.m.: Miscellaneous (Open)—The Committee will discuss miscellaneous matters related to the conduct of the Committee and organizational activities and complete discussion of matters and specific issues that were not completed during previous meetings, as time and availability of information permit.

Procedures for the conduct of and participation in ACNW meetings were published in the Federal Register on September 28, 1999 (64 FR 52352). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Howard J. Larson, ACNW (Telephone 301/415-6805), between 8:00 A.M. and 5:00 P.M. EDT.

ACNW meeting notices, meeting transcripts, and letter reports are now available for downloading or reviewing on the internet at http://www.nrc.gov/ACRSACNW.

Dated: August 29, 2000.
Annette Vietti-Cook,
Acting Advisory Committee Management Officer.

[FR Doc. 00-22645 Filed 9-1-00; 8:45 am]

BILLING CODE 7590-01-P